DEPARTMENT OF AGRICULTURE

Office of the Secretary

Meeting Notice of the National Agricultural Research, Extension, Education, and Economics Advisory Board

AGENCY: Research, Education, and Economics.

ACTION: Notice of public meeting.

SUMMARY: In accordance with the Federal Advisory Committee Act, the National Agricultural Research, Extension, and Teaching Policy Act of 1977, and the Agriculture Improvement Act of 2018, the United States Department of Agriculture (USDA) announces a meeting of the National Agricultural Research, Extension, Education, and Economics (NAREEE) Advisory Board. The Board will meet to continue to determine its advice and recommendations on the top priorities and policies for food and agricultural research, education, extension, and economics; discuss progress on their `Relevance and Adequacy' evaluation of USDA's precision nutrition efforts; and visit the North Carolina Agriculture and Technology (A&T) University Center for Post Harvest Technologies and the North Carolina Food Innovation Lab.

DATES: The NAREEE Advisory Board will meet in person June 3-4, 2024. The date and times the meeting is open to the public on June 3, 2024, is from 8:30-11:45 a.m. and 3:00 p.m. to 5:45 p.m. EDT. The time for public oral comments is 5:30 p.m.-5:45 p.m. EDT. The meeting is not open to the public from 11:45 a.m.-3:00 p.m. for administrative purposes.

The date and times that the meeting is open to the public on June 4, 2024, is from 8:30-noon EDT. The time for public oral comments is 11:45 a.m.-noon EDT. The meeting is not open to the public from noon-3:00 p.m. EDT for administrative purposes.

Public Participation/Oral Comments: Interested individuals may participate in-person or virtually. To attend the meeting via Zoom and/or make oral comments, you must contact Ms. Michele Simmons at email: nareee@usda.gov at least five business days prior to the meeting (no later than May 27, 2024).

Written Comments: The public may file written comments no later than May 27, 2024. Written comments from the public may be submitted via email at nareee@usda.gov to the attention of Ms. Michele Simmons. Public written comments will be considered by the NAREEE Advisory Board at the meeting. All written public comments will be available for review at the meeting. Duplicate comments from multiple individuals will appear as one comment, with a notation that multiple copies of the comment were received. The comments will be maintained in the public record of the federal advisory committee at USDA. Please visit https://nareeeab.ree.usda.gov to learn more about the agenda for or reports resulting from this meeting.

All statements will become a part of the official record of the NAREEE Advisory Board and will be kept on file for public review in the NAREEE Advisory Board's Office. Written comments by attendees and other interested stakeholders will be welcomed for the public record before and up to two weeks following the Board meeting (no later than 5 p.m. eastern standard time on Wednesday, June 19, 2024).

ADDRESSES: Meeting Location: The Board meeting will take place North Carolina Research Campus; Core Laboratory Building (Events Room); 150 Research Campus Drive, Kannapolis, NC 28081.

FOR FURTHER INFORMATION CONTACT: Ms. Kate Lewis, Executive Director/Designated Federal Official, or Ms. Michele Simmons, Program Support Coordinator, National Agricultural Research, Extension, Education, and Economics Advisory Board; telephone: (202) 579-6610 or email: nareee@usda.gov.

SUPPLEMENTARY INFORMATION: In accordance with the Federal Advisory Committee Act, 5 U.S.C. 10, Section 1408 of the National Agricultural Research, Extension, and Teaching Policy Act of 1977 (7 U.S.C. 3123), and the Agriculture Improvement Act of 2018, the United States Department of Agriculture (USDA) announces a meeting of the National Agricultural Research, Extension, Education, and Economics (NAREEE) Advisory Board.

Purpose of the meeting: The Board will meet to continue to determine its advice and recommendations on the top priorities and policies for food and agricultural research, education, extension, and economics; discuss progress on their `Relevance and Adequacy' evaluation of USDA's precision nutrition efforts; and visit the North Carolina Agriculture and Technology (A&T) University Center for Post Harvest Technologies and the North Carolina Food Innovation Lab.

An agenda for this two-day meeting may be received by sending an email to the attention of Ms. Michele Simmons at nareee@usda.gov.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to the FACA Committee. To ensure that the recommendations of the Committee have taken into account the needs of the diverse groups served by the Department, membership shall include, to the extent practicable, individuals with demonstrated ability to represent the many communities, identities, races, ethnicities, backgrounds, abilities, cultures, and beliefs of the American people, including underserved communities. USDA is an equal opportunity provider, employer, and lender.

Dated: May 6, 2024.
Cikena Reid,
USDA Committee Management Officer.

[FR Doc. 2024-10211 Filed 5-9-24; 8:45 am]

BILLING CODE 3410-03-P